DEPARTMENT OF THE INTERIOR

Bureau of Land Management

[CA-670-01-1610-JP-064B, C00-0927 WHA-ADR]

Temporary Closure of Selected Routes of Travel in Lower Chemehuevi Valley, San Bernardino County, CA

AGENCY: Bureau of Land Management, Interior.

ACTION: Temporary closure to motorized vehicles on selected routes of travel or areas in San Bernardino, County, California.

DATES: The temporary closure was approved October 18, 2001, and is in effect.

ADDRESSES: Bureau of Land Management, California Desert District Office, 6221 Box Springs, Boulevard, Riverside, CA 92507.

FOR ADDITIONAL INFORMATION CONTACT: Richard Crowe, BLM, California Desert District Office, 6221 Box Springs Boulevard, Riverside, CA 92507, telephone (909) 697-5216. The closure is posted in the California Desert District Office, and at places near and/or within the area to which the closure applies. Maps identifying the affected areas are available at the California Desert District Office, as well as on the Bureau of Land Management (BLM) California Web site at www.ca.blm.gov.

SUPPLEMENTARY INFORMATION: This temporary closure is implemented pursuant to title 43 Code of Federal Regulations (CFR) 8341.2(a). The closure was approved October 18, 2001 and will remain in effect until a Record of Decision is signed on the Northern and Eastern Colorado Desert (NECO) Plan, an amendment to the California Desert Conservation Area Plan, which is expected to be signed September 2002.

Exceptions to this closure include government vehicles conducting official business which shall be allowed inside the closed areas as authorized. Official business may include public service emergencies, resource monitoring/research, other dunes operations and management activities, and other actions authorized by BLM's California Desert District Office Manager.

Notice of the proposed closure was published in the Federal Register on July 30, 2001, (66 FR 39332-39333).

Dated: October 19, 2001.
Henri Bisson,
Assistant Director Renewable Resources and Planning.

[FR Doc. 01-26869 Filed 10-23-01; 8:45 am]

BILLING CODE 4310-40-M